ENVIRONMENTAL PROTECTION AGENCY

[ER-FRL-6695-6]

Environmental Impact Statement and Regulations; Availability of EPA Comments

Availability of EPA comments prepared pursuant to the Environmental Review Process (ERP), under section 309 of the Clean Air Act and section 102(2)(c) of the National Environmental Policy Act as amended. Requests for copies of EPA comments can be directed to the Office of Federal Activities at 202-564-7167.

An explanation of the ratings assigned to draft environmental impact statements (EISs) was published in FR dated April 6, 2007 (72 FR 17156).

Draft EISs

EIS No. 20070349, ERP No. D-NAS-A12044-00, Programmatic—Constellation Program, Develop the Flight Systems and Earth-based Ground Infrastructure for Future Missions, International Space Station, The Moon, Mars, and Beyond, Brevard and Volusia Counties, FL; Hancock County, Ms; Orleans Parish, LA; Harris County, TX; Madison County, AL; Cuyahoga and Erie Counties, OH; Hampton, VA; Santa Clara County, CA; Dona Ana and Otero Counties, NM; and Box Elder and Davis Counties, UT.

Summary: EPA does not object to the proposed action. Rating LO.

EIS No. 20070410, ERP No. D-BLM-K67057-NV, Cortez Hills Expansion Project, Proposes to Construct and Operate a New Facilities and Expansion of the Existing Open-Pit Gold Mining and Processing Operations, Crescent Valley, Lander and Eureka Counties, NV.

Summary: EPA expressed environmental concerns about wetland/riparian habitat mitigation and reclamation and post-closure financial assurance and recommended the Final EIS include additional information regarding the wetland/riparian habitat mitigation plan, financial assurance for reclamation activities and post-closure mitigation and monitoring. Rating EC2.

EIS No. 20070435, ERP No. D-BLM-J65494-UT, Richfield Field Office Resource Management Plan, Implementation, Future Management of the Public Lands and Resource, Glen Canyon National Recreation Area, Capitol Reef and Canyonlands National Parks, Sanpete, Sevier, Piute, Wayne and Garfield Counties, UT.

Summary: EPA expressed environmental concerns about air quality, water quality, and riparian/wetland impacts. In addition, EPA has concerns about impacts from recreation activities. Rating EC2.

Final EISs

EIS No. 20070516, ERP No. F-FHW-D40338-00, U.S. 301 Project Development, Transportation Improvements from MD State Line to DE-1, South of the Chesapeake and Delaware Canal, New Castle County, DE.

Summary: EPA's previous issues have been resolved; therefore, EPA has no objections to the proposed action.

EIS No. 20070528, ERP No. F-AFS-J65487-UT, Millville Peak/Logan Peak Road Relocation Project, Provide a Safe, Reliable, Ground Access Route, Logan Ranger District, Wasatch-Cache National Forest, Cache County, UT.

Summary: While some of EPA's previous issues have been resolved, EPA believes that the proposed action will continue to cause net environmental impacts to water quality.

Dated: January 29, 2008.
Ken Mittelholtz,
Environmental Protection Specialist, Office of Federal Activities.

[FR Doc. 08-450 Filed 1-31-08; 8:45 am]

BILLING CODE 6560-50-P